SOCIAL SECURITY ADMINISTRATION

The Ticket to Work and Work Incentives Advisory Panel Meeting

AGENCY: Social Security Administration (SSA).

ACTION: Notice of Teleconference Meeting.

DATES: November 8, 2000, 1:30 p.m.-4:00 p.m.

ADDRESSES: Social Security Administration, International Trade Center, 500 E St. SW, 8th Floor, Theatre Room, Washington, D.C. 20254.

SUPPLEMENTARY INFORMATION: Type of Meeting: This teleconference meeting is open to the public. The public is invited to participate by coming to the address listed above or calling in to the scheduled teleconference. The meeting will include an opportunity for public comment.

Purpose: In accordance with section 10(a)(2) of the Federal Advisory Committee Act, the Social Security Administration (SSA) announces a public meeting of the Ticket to Work and Work Incentives Advisory Panel (the Panel). Section 101(f) of Public Law 106-170, the Ticket to Work and Work Incentives Improvement Act of 1999 (TWWIIA), establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

The Panel teleconference meeting will be devoted to public comment and discussion on the subject of the implementation of TWWIIA. The Panel also invites the public to submit comments on the subject in writing for this meeting. The Panel will accept written comments on the implementation of TWWIIA no longer than 5 pages, either in person or by mail, fax or e-mail until November 13, 2000. (See detailed contact information below.)

Agenda: The meeting will commence on Tuesday, November 8, 2000 at 1:30 p.m. From 1:30 p.m. to 3:00 p.m., the Panel will hear public testimony on the implementation of TWWIIA, including implementation of mandated protection and advocacy (P&A) services. The Panel will be particularly interested in hearing and discussing views on the following P&A issues—

1. Should P&A services be available to all beneficiaries regardless of whether or not they are ticket users or living in a ticket roll-out state?

2. Should mediation be a part of the dispute resolution process?

3. Should there be an external appeals process available to beneficiaries who have disputes?

Individuals interested in providing testimony at the meeting on these or other TWWIIA implementation topics can do so in person or by teleconference by contacting the Panel staff to schedule time slots for presentation.

The Chair will call on each presenter in the order in which they are scheduled to present verbal testimony. Each presenter will be invited to address the Panel for a maximum of five (5) minutes.

From 3:00 p.m. to 4:00 p.m. there will be deliberation by the Panel on the implementation of TWWIIA. The Panel will also use any time available between 1:30 p.m. and 3:00 p.m. to deliberate in the event the time allotted for public comment exceeds the time required.

The agenda is also posted on the Internet at http://www.ssa.gov/work/ResourcesToolkit/ or can be received in advance electronically or by fax upon request. (See contact information below.)

Contact Information: Individuals interested in providing testimony must contact the Panel staff for the call-in teleconference number and to schedule presentation time slots. Since seating and telephone lines may be limited, persons interested in providing testimony or in attending this meeting should contact the Panel staff by E-mailing Kristen M. Breland, at “kristen.m.breland@ssa.gov” or calling (410) 966-7225.

Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 107 Altmeyer Building, 6401 Security Boulevard, Baltimore, MD, 21235

• Telephone at (410) 966-7225 (Kristen Breland)

• Fax at (410) 965-9063

• E-mail to TWWIIAPanel@ssa.gov

Dated: October 5, 2000.
Deborah M. Morrison,
Designated Federal Officer.

[FR Doc. 00-26312 Filed 10-12-00; 8:45 am]

BILLING CODE 4191-02-P